DEPARTMENT OF AGRICULTURE

U.S. Codex Office

Codex Alimentarius Commission: Meeting of the Codex Committee on Food Import and Export Inspection and Certification Systems

AGENCY: U.S. Codex Office, USDA.

ACTION: Notice of public meeting and request for comments.

SUMMARY: The U.S. Codex Office is sponsoring a public meeting on March 23, 2023 from 1:00-3:00 p.m. EST. The objective of the public meeting is to provide information and receive public comments on agenda items and draft United States (U.S.) positions to be discussed at the 26th Session of the Codex Committee on Food Import and Export Inspection and Certification Systems (CCFICS) of the Codex Alimentarius Commission, which will meet in Hobart, Tasmania, Australia from May 1-5, 2023. The U.S. Manager for Codex Alimentarius and the Under Secretary for Trade and Foreign Agricultural Affairs recognize the importance of providing interested parties the opportunity to obtain background information on the 26th Session of the CCFICS and to address items on the agenda.

DATES: The public meeting is scheduled for March 23, 2023, from 1-3 p.m. EST.

ADDRESSES: The public meeting will take place via Video Teleconference only. Documents related to the 26th Session of the CCFICS will be accessible via the internet at the following address: https://www.fao.org/fao-who-codexalimentarius/meetings/detail/en/?meeting=CCFICS&session=26.

Dr. Michelle Catlin, U.S. Delegate to the 26th Session of the CCFICS, invites interested U.S. parties to submit their comments electronically to the following email address: michelle.catlin@usda.gov.

Registration: Attendees may register to attend the public meeting here: https://www.zoomgov.com/meeting/register/vJItc-ypqT4rG02UwvpvFjgyoCNe5q1vSXA. After registering, you will receive a confirmation email containing information about joining the meeting.

For further information about the 26th Session of the CCFICS, contact Michelle Catlin, Ph.D., International Coordination Executive, Office of International Coordination, Food Safety and Inspection Service, U.S. Department of Agriculture; Phone: +1 (202) 708-8769, Email: michelle.catlin@usda.gov. For further information about the public meeting, contact the U.S. Codex Office, 1400 Independence Avenue SW, Room 4861, South Agriculture Building, Washington, DC 20250; Phone: +1 (202) 720-9483; Email: uscodex@usda.gov.

SUPPLEMENTARY INFORMATION:

Background

The Codex Alimentarius Commission was established in 1963 by two United Nations organizations, the Food and Agriculture Organization (FAO) and the World Health Organization (WHO). Through adoption of food standards, codes of practice, and other guidelines developed by its committees, and by promoting their adoption and implementation by governments, Codex seeks to protect the health of consumers and ensure fair practices in the food trade.

The Terms of Reference for the Codex Committee on Food Import and Export Inspection and Certification Systems (CCFICS) are:

(a) to develop principles and guidelines for food import and export inspection and certification systems with a view to harmonising methods and procedures which protect the health of consumers, ensure fair trading practices and facilitate international trade in foodstuffs;

(b) to develop principles and guidelines for the application of measures by the competent authorities of exporting and importing countries to provide assurance where necessary that foodstuffs comply with requirements, especially statutory health requirements;

(c) to develop guidelines for the utilisation, as and when appropriate, of quality assurance systems ¹ to ensure that foodstuffs conform with requirements and to promote the recognition of these systems in facilitating trade in food products under bilateral/multilateral arrangements by countries;

¹ Quality assurance means all those planned and systematic actions necessary to provide adequate confidence that a product or service will satisfy given requirements for quality (ISO-8402 Quality—Vocabulary)

(d) to develop guidelines and criteria with respect to format, declarations and language of such official certificates as countries may require with a view towards international harmonization;

(e) to make recommendations for information exchange in relation to food import/export control;

(f) to consult as necessary with other international groups working on matters related to food inspection and certification systems; and,

(g) to consider other matters assigned to it by the Commission in relation to food inspection and certification systems.

The CCFICS is hosted by Australia, and the meeting is attended by the United States as a member country of the Codex Alimentarius.

Issues To Be Discussed at the Public Meeting

The following items on the agenda for the 26th Session of the CCFICS will be discussed during the public meeting:

• Matters referred by CAC and other subsidiary bodies

• Matters of interest arising from FAO/WHO

• Proposed draft guidelines on recognition and maintenance of equivalence of National Food Control Systems (NFCS)

• Proposed draft Guidance on the prevention and control of food fraud

• Proposed draft Principles and Guidelines on the Use of Remote Audit and Verification in Regulatory Frameworks

• Proposed draft consolidated Codex Guidelines related to equivalence

• Discussion paper on review and update of the “Principles for Traceability/Product Tracing as a Tool Within a Food Inspection and Certification System (CXG 60-2006)

• Other business and future work

Public Meeting

At the public meeting on March 23, 2023, draft U.S. positions on the agenda items will be described and discussed, and attendees will have the opportunity to pose questions and offer comments. Written comments may be offered at the meeting or sent to Dr. Michelle Catlin, U.S. Delegate to the 26th Session of the CCFICS (see ADDRESSES). Written comments should state that they relate to activities of the 26th Session of the CCFICS.

Additional Public Notification

Public awareness of all segments of rulemaking and policy development is important. Consequently, the U.S. Codex Office will announce this Federal Register publication on-line through the USDA Codex web page located at: http://www.usda.gov/codex, a link that also offers an email subscription service providing access to information related to Codex. Customers can add or delete their subscriptions themselves and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How to File a Complaint of Discrimination

To file a complaint of discrimination, complete the USDA Program Discrimination Complaint Form, which may be accessed online at https://www.usda.gov/oascr/filing-program-discrimination-complaint-usda-customer, or write a letter signed by you or your authorized representative. Send your completed complaint form or letter to USDA by mail, fax, or email. Mail: U.S. Department of Agriculture, Director, Office of Adjudication, 1400 Independence Avenue SW, Washington, DC 20250-9410; Fax: (202) 690-7442; Email: program.intake@usda.gov. Persons with disabilities who require alternative means for communication (Braille, large print, audiotape, etc.) should contact USDA's TARGET Center at (202) 720-2600 (voice and TDD).

Done at Washington, DC.
Mary Frances Lowe,
U.S. Manager for Codex Alimentarius.

[FR Doc. 2023-02810 Filed 2-9-23; 8:45 am]

BILLING CODE P